DEPARTMENT OF LABOR

Employment and Training Administration

[TA-W-82,374; TA-W-82,374A; TA-W-82,374B; TA-W-82,374C; TA-W-82,374D;]

Catholic Health Initiatives; Information Technology Services; ITS Technical Services; Working On-Site at St. Elizabeth Regional Medical Center; Including On-Site Leased Workers from TEKsystems; Lincoln, Nebraska; Catholic Health Initiatives; Information Technology Services; ITS Technical Services; Working On-Site at the Physician Network; Including On-Site Leased Workers from TEKsystems; Lincoln, Nebraska; Catholic Health Initiatives; Information Technology Services; ITS Technical Services; Working On-Site at Nebraska Heart Institute; Including On-Site Leased Workers from TEKsystems and Concentric; Lincoln, Nebraska Catholic Health Initiatives; Information Technology Services; ITS Technical Services; Working On-Site at Nebraska Heart Hospital; Including On-Site Leased Workers from TEKsystems; Lincoln, Nebraska; Catholic Health Initiatives; Information Technology Services; ITS Technical Services; Including On-Site Leased Workers from TEKsystems; Englewood, Colorado; Amended Certification Regarding Eligibility; To Apply for Worker Adjustment Assistance

In accordance with Section 223 of the Trade Act of 1974, as amended (“Act”), 19 U.S.C. 2273, the Department of Labor issued a Certification of Eligibility to Apply for Worker Adjustment Assistance on May 23, 2013, applicable to workers of Catholic Health Initiatives, Information Technology Services, ITS Technical Services, working on-site at St. Elizabeth Regional Medical Center, including on-site leased workers from TEKsystems, Lincoln, Nebraska (TA-W-82,374), Catholic Health Initiatives, Information Technology Services, ITS Technical Services, working on-site at The Physician Network, including on-site leased workers from TEKsystems, Lincoln, Nebraska (TA-W-82,374A), Catholic Health Initiatives, Information Technology Services, ITS Technical Services, working on-site at Nebraska Heart Institute, including on-site leased workers from TEKsystems and Concentric, Lincoln, Nebraska (TA-W-82,374B) and Catholic Health Initiatives, Information Technology Services, ITS Technical Services, working on-site at Nebraska Heart Hospital, including on-site leased workers from TEKsystems, Lincoln, Nebraska (TA-W-82,374C). The workers are engaged in activities related to the supply of healthcare services. The worker group is engaged in activities related to the supply of information technology services, specifically desktop and computing services, data center and server management, and network management services. The notice was published in the Federal Register on June 10, 2013 (78 FR 34673).

The Department reviewed the certification for workers of the subject firm. New information from the company shows that worker separations at Catholic Health Initiatives, ITS, Englewood, Colorado were attributable to the same acquisition of services that led to the certification of workers at the other locations.

The intent of the Department's certification is to include all workers of the subject firm who were adversely affected by the acquisition of information technology services.

Based on these findings, the Department is amending this certification to include workers from Catholic Health's, ITS, Englewood, Colorado location.

The amended notice applicable to TA-W-81,097 is hereby issued as follows:

All workers from Catholic Health Initiatives, Information Technology Services, ITS Technical Services, working on-site at St. Elizabeth Regional Medical Center, including on-site leased workers from TEKsystems, Lincoln, Nebraska (TA-W-82,374), Catholic Health Initiatives, Information Technology Services, ITS Technical Services, working on-site at The Physician Network, including on-site leased workers from TEKsystems, Lincoln, Nebraska (TA-W-82,374A), Catholic Health Initiatives, Information Technology Services, ITS Technical Services, working on-site at Nebraska Heart Institute, including on-site leased workers from TEKsystems and Concentric, Lincoln, Nebraska (TA-W-82,374B), Catholic Health Initiatives, Information Technology Services, ITS Technical Services, working on-site at Nebraska Heart Hospital, including on-site leased workers from TEKsystems, Lincoln, Nebraska (TA-W-82,374C), and Catholic Health Initiatives, Information Technology Services, ITS Technical Services, including on-site leased workers from TEKsystems, Englewood, Colorado (TA-W-82,374D) who became totally or partially separated from employment on or after January 28, 2012, through May 23, 2015, and all workers in the group threatened with total or partial separation from employment on date of certification through two years from the date of certification, are eligible to apply for adjustment assistance under Chapter 2 of Title II of the Trade Act of 1074, as amended.

Signed at Washington, DC this 25th day of July, 2014.
Del Min Amy Chen,
Certifying Officer, Office of Trade Adjustment Assistance .

[FR Doc. 2014-19508 Filed 8-15-14; 8:45 am]

BILLING CODE 4510-FN-P